DEPARTMENT OF ENERGY

Industrial Technology Innovation Advisory Committee

AGENCY: Office of Energy Efficiency and Renewable Energy, Department of Energy.

ACTION: Notice of solicitation of nominations.

SUMMARY: In accordance with the Federal Advisory Committee Act, the U.S. Department of Energy (DOE) is soliciting nomination for candidates to the Industrial Technology Innovation Advisory Committee (Committee). Nominations will be considered to fill membership vacancies and maintain balance in points of view to fulfill the Committee's mission.

DATES: The deadline for Industrial Technology Innovation Advisory Committee member nominations is June 13, 2025.

FOR FURTHER INFORMATION CONTACT: Dr. Zachary Pritchard, Industrial Technologies Office, U.S. Department of Energy, Washington, DC 20585; Telephone: (202) 246-4145 or Email: ITIAC@ee.doe.gov.

SUPPLEMENTARY INFORMATION: The Committee is established pursuant to section 455 of the Energy Independence and Security Act of 2007, Public Law 110-140 (hereafter, EISA) as added by Public Law 116-260, div. Z, section 6004 and in accordance with the Federal Advisory Committee Act (FACA), as amended, 5 U.S.C., App. 2, and the rules and regulations in implementation of that Act. The Committee is established under the authority of DOE. The Committee advises the Secretary of Energy (Secretary) on a program to increase the technological and economic competitiveness of industry and manufacturing in the United States, increase the viability and competitiveness of United States industrial technology exports, and achieve emissions reduction in nonpower industrial sectors. The Committee is charged with identifying and evaluating any technologies being developed by the private sector relating to the focus areas described in section 454(c) of the EISA; identifying technology gaps in the private sector or other Federal agencies in those focus areas, and making recommendations on how to address those gaps; surveying and analyzing factors that prevent the adoption of emissions reduction technologies by the private sector; and recommending technology screening criteria for technology developed under the program to encourage adoption of the technology by the private sector.

The Committee shall be comprised of not more than 20 members, who shall be appointed by the Secretary, in consultation with the Director of the Office of Science and Technology Policy (Director). The members shall be appointed by the Secretary, in consultation with the Director, to serve as representatives, Federal Government employees, and special Government employees (SGEs) in accordance with the following membership requirements articulated in the EISA:

• Not less than 1 representative of each relevant Federal agency, as determined by the Secretary;

• Chair of the Secretary of Energy Advisory Board, if that position is filled;

• Not less than 2 representatives of labor groups;

• Not less than 3 representatives of the research community, which shall include academia and National Laboratories;

• Not less than 2 representatives of nongovernmental organizations;

• Not less than 6 representatives of small- and large-scale industry, the collective expertise of which shall cover every focus area described in section 454(c) of EISA;

• Not less than 1 representative of a State government; and

• Any other individuals the Secretary, in coordination with the Director, determines to be necessary to ensure that the Committee is comprised of a diverse group of representatives of industry, academia, independent researchers, and public and private entities.

This call for nominations seeks to fill membership vacancies and maintain balance in points of view to fulfill the Committee's mission. Nominations are welcomed in any of the categories above and in any of the Committee's focus areas. Nominations are particularly sought for individuals with expertise in one or more of the following topics: advanced nuclear technologies for the industrial sector, electric load growth in the industrial sector, and the refining industry. Additionally, nominations are particularly sought for individuals who represent labor groups associated with any of the Committee's focus areas.

The Committee members will serve for a term of up to two years and may be reappointed for up to two successive terms. Appointments may be made in a manner that allows the terms of the members serving at any time to expire at spaced intervals to ensure continuity in the functioning of the Committee. Committee members will serve at the discretion of the Secretary. The Chairperson of the Committee will be selected by the Secretary. The Chairperson will serve a two-year term and may be reappointed for an additional term. Committee members will meet periodically, approximately twice a year. When vacancies occur, the Secretary will, in consultation with the Director, identify appointment nominees who can address the Committee's needs pursuant to EISA. Subcommittee membership is drawn from that of the full Committee and thus reflects much of the balance described previously. Additionally, technical experts may be appointed to the subcommittee in order to provide additional expertise and fulfill any lacking points of view relative to the subcommittee's mission/function.

Members must be able to actively participate in the tasks of the Committee including, but not limited to, attending, and participating in in-person meetings, reviewing materials, and regularly participating in conference calls, working groups, and formal subcommittees. The Secretary will consider nominees who can best support, in an advisory capacity.

Members of the Committee serve without compensation; however, members may be reimbursed in accordance with the Federal Travel Regulations for authorized travel and per diem expenses.

Nominations are open to all individuals without regard to race, color, religion, sex, national origin, age, mental or physical handicap, marital status, or sexual orientation. Members will be selected based on their individual qualifications as detailed in their nomination package, as well as the overall need to achieve a balanced representation of viewpoints, subject matter expertise, and regional knowledge.

The Secretary will, in consultation with the Director, consider nominations of all qualified individuals to ensure that the Committee includes the areas of experience noted previously. Individuals may nominate themselves or other individuals, and professional associations and organizations may nominate one or more qualified persons for consideration. Nominations shall state that the nominee is willing to serve as a member and carry out the duties of the Committee. A nomination package should include the following information for each nominee: A letter of nomination (1) stating the name, affiliation, position title, and contact information for the nominee (mailing address, email address, and daytime telephone number); (2) the basis for the nomination (i.e., what specific attributes recommend them for service in this capacity), and (3) the nominee's field(s) of experience within the focus areas listed in section 454(c) of the EISA, as codified at 42 U.S.C. 17113(c), and (4) the name, mailing address, email address, and daytime telephone number at which the nominator can be contacted. A nomination package should provide an adequate description of the nominee's qualifications, including information that will enable DOE to make an informed decision regarding meeting the membership requirements and objectives.

All nomination information should be provided in a single, complete package by June 13, 2025. Interested applicants should send their nomination package to ITIAC@ee.doe.gov with the subject line “ITIAC 2025 Call for Nominations”. Respondents to previous calls for nominations are encouraged to submit updated nomination packages as appropriate.

Signing Authority: This document of the Department of Energy was signed on May 12, 2025, by Alyssa Petit, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 12, 2025.
Jennifer Hartzell,
Alternate Federal Register Liaison Officer, U.S. Department of Energy.

[FR Doc. 2025-08620 Filed 5-14-25; 8:45 am]

BILLING CODE 6450-01-P